DEPARTMENT OF ENERGY

Federal Energy Regulatory Commission

[Project No. 3777-011]

Town of Rollinsford, New Hampshire; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 3777-011.

c. Date filed: August 29, 2019.

d. Applicant: Town of Rollinsford, New Hampshire (Town).

e. Name of Project: Rollinsford Project.

f. Location: On the Salmon Falls River in Strafford County, New Hampshire and York County, Maine. No federal lands are occupied by the project works or located within the project boundary.

g. Filed Pursuant to: Federal Power Act 16 U.S.C. 791(a)-825(r).

h. Applicant Contact: Mr. John Greenan, Green Mountain Power Corporation, 1252 Post Road, Rutland, VT 05701; Phone at (802) 770-2195, or email at John.Greenan@greenmountainpower.com.

i. FERC Contact: Bill Connelly, (202) 502-8587 or william.connelly@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis at this time.

l. Project Description: The existing Rollinsford Project consists of: (1) A 317-foot long, 19-foot-high concrete-masonry dam; (2) a 70-acre impoundment with a gross storage capacity of 456 acre-feet at a normal elevation of 71.25 feet National Geodetic Vertical Datum of 1929, including the 15-inch spillway flashboards; (3) an 82-foot-long, 52-foot-wide intake facility; (4) a 350-foot-long, 10-square-foot concrete penstock that empties into a 250-foot-long, 9-foot diameter steel penstock that directs flow to a 30-foot-long, 40-foot-wide reinforced concrete forebay that is integral with the powerhouse; (5) a 38-foot-long, 60-foot-wide concrete and brick masonry powerhouse containing two, vertical Francis turbine-generator units rated at 750 kilowatts (kW) each, for a total installed capacity of 1,500 kW; (6) a 38-foot-long, 34-foot-wide tailrace channel; (7) a 100-foot-long underground transmission line that extends from the powerhouse to a step-up transformer, where voltage is increased from 4.16-kilovolt (kV) to 13.8 kV; and (8) appurtenant facilities.

The Town voluntarily operates the project in a run-of-river mode using an automatic pond level control system, such that outflow from the project approximates inflow. The existing license requires the licensee to release: (1) A continuous minimum flow of 10 cubic feet per second (cfs) or inflow, whichever is less, from the dam to the bypassed reach; and (2) a minimum flow of 115 cfs or inflow, whichever is less, through the powerhouse to the downstream reach. The average annual generation was 5,837.9 megawatt-hours for the period of record from 2005 to 2018.

The Town proposes to: (1) Continue to operate the project in a run-of-river mode; (2) provide a minimum flow release of 35 cfs or inflow, whichever is less, into the bypassed reach; (3) install and operate an upstream eel ramp; (4) install and operate a downstream fish passage facility for adult eels and resident and migratory fish species; (5) implement nighttime turbine shutdowns from 8 p.m. to 4 a.m. during the months of September and October for 3 consecutive nights following rain accumulations of 0.5 inch or more over a 24-hour period; (6) conduct a study to quantify movements of river herring and American shad migrating downstream from the project tailwater through the bypassed reach to the project dam; and (7) consult with the New Hampshire and Maine State Historic Preservation Officers to determine the need to conduct archaeological or historical surveys and to implement avoidance or mitigation measures before beginning any land-disturbing activities or alterations to known historic structures within the project boundary.

m. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3777). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

a.

b.

c.

d.

e.

f.

g.

h.

i.

j.

k.

l.

m.

n.

o. A license applicant must file no later than 60 days following the date of issuance of this notice: (1) A copy of the water quality certification; (2) a copy of the request for certification, including proof of the date on which the certifying agency received the request; or (3) evidence of waiver of water quality certification.

p. Procedural Schedule: The application will be processed according to the following schedule. Revisions to the schedule will be made as appropriate.

Milestone | Target date
Filing of interventions, protests, comments, recommendations, preliminary terms and conditions, and preliminary fishway prescriptions | June 2020.
Commission issues Environmental Assessment | December 2020.
Comments on Environmental Assessment | January 2021.

Final amendments to the application must be filed with the Commission no later than 30 days from the issuance date of this notice.

Dated: April 29, 2020.
Kimberly D. Bose,
Secretary.

[FR Doc. 2020-09565 Filed 5-4-20; 8:45 am]

BILLING CODE 6717-01-P